ENVIRONMENTAL PROTECTION AGENCY

40 CFR Part 300

[FRL-6965-2]

National Oil and Hazardous Substance Pollution Contingency Plan; National Priorities List

AGENCY: Environmental Protection Agency.

ACTION: Direct final rule; deletion of the Gulf Coast Vacuum Services Superfund Site from the National Priorities List.

SUMMARY: The Environmental Protection Agency (EPA) Region 6 is publishing a direct final rule of deletion of the Gulf Coast Vacuum Services Superfund Site (Site), located in Vermilion Parish, Louisiana from the National Priorities List (NPL). The NPL, promulgated pursuant to section 105, 42 U.S.C. 9605(a) of the Comprehensive Environmental Response, Compensation, and Liability Act (CERCLA) of 1980, as amended, is found at appendix B of 40 CFR part 300 of the National Oil and Hazardous Substances Pollution Contingency Plan (NCP). This direct final rule of deletion is being published by the EPA with the concurrence of the State of Louisiana, through the Louisiana Department of Environmental Quality (LDEQ), because the EPA has determined that all appropriate response actions under CERCLA have been completed and, therefore, further remedial action pursuant to CERCLA is not appropriate.

DATES: This direct final rule of deletion will be effective July 23, 2001 unless the EPA receives adverse comments by June 21, 2001. If adverse comments are received, the EPA will publish a timely withdrawal of the direct final rule of deletion in the Federal Register informing the public that the deletion will not take effect.

ADDRESSES: Comments may be mailed to: Ms. Beverly Negri, Community Involvement Coordinator (6SF-PO), U.S. EPA Region 6, 1445 Ross Avenue, Dallas, Texas 75202-2733, (214) 665-8157 or 1-800-533-3508.

Comprehensive information about the Site is available for viewing and copying at the Site information repositories located at: U.S. EPA Region 6 Library, Suite 12D13, 1445 Ross Avenue, Dallas, Texas 75202-2733, (214) 665-6524, Monday through Friday 7:30 a.m. to 4:30 p.m.; Vermilion Parish Library, 200 North Magdalen Square, Abbeville, Louisiana, 75011, (318) 893-2674, Monday and Thursday 9:00 a.m. to 8:00 p.m., Tuesday, Wednesday, and Friday 9:00 a.m. to 5:30 p.m., and Saturday 9:00 a.m. to 1:00 p.m.; and Louisiana Department of Environmental Quality, 7290 Bluebonnet Road, Baton Rouge, Louisiana 70809, (225) 765-0487, Monday through Friday 8:00 a.m. to 4:00 p.m.

FOR FURTHER INFORMATION CONTACT: Mrs. Katrina Coltrain, Remedial Project Manager (6SF-LP), U.S. EPA Region 6, 1445 Ross Avenue, Dallas, Texas 75202-2733, (214) 665-8143 or 1-800-533-3508.

SUPPLEMENTARY INFORMATION:

Table of Contents

I. Introduction

I. NPL Deletion Criteria

III. Deletion Procedures

IV. Basis for Site Deletion

V. Deletion Action

I. Introduction

EPA Region 6 is publishing this Direct Final Notice of Deletion of the Gulf Coast Vacuum Services Superfund Site from the NPL.

The EPA identifies sites that appear to present a significant risk to public health or the environment and maintains the NPL as the list of those sites. As described in § 300.425(e)(3) of the NCP, sites deleted from the NPL remain eligible for remedial actions, if conditions at a deleted site warrant such action.

Because the EPA considers this action to be noncontroversial and routine, the EPA is taking it without prior publication of a notice of intent to delete. This action will be effective July 23, 2001 unless the EPA receives adverse comments by June 21, 2001 on this rule. If adverse comments are received within the 30-day public comment period on this rule, the EPA will publish a timely Withdrawal of this Direct Final Rule of Deletion before the effective date of the deletion, and said deletion will not take effect. The EPA will, as appropriate, prepare a response to comments and continue with the deletion process on the basis of the proposed Notice of Intent to Delete and the comments already received. There will be no additional opportunity to comment.

Section II of this document explains the criteria for deleting sites from the NPL. Section III discusses procedures that the EPA is using for this action. Section IV discusses the Gulf Coast Vacuum Services Superfund Site and demonstrates how it meets the deletion criteria. Section V discusses the EPA's action to delete the Site from the NPL unless adverse comments are received during the public comment period.

II. NPL Deletion Criteria

Section 300.425(e) of the NCP provides that releases may be deleted from the NPL where no further response is appropriate. In making a determination to delete a release from the NPL, the EPA shall consider, in consultation with the State, whether any of the following criteria have been met:

i. Responsible parties or other persons have implemented all appropriate response actions required;

ii. All appropriate Fund-financed (Hazardous Substance Superfund Response Trust Fund) response under CERCLA has been implemented, and no further response action by responsible parties is appropriate; or

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c) requires that a subsequent review of the site be conducted at least every five years after the initiation of the remedial action at the deleted site to ensure that the action remains protective of public health and the environment. If new information becomes available which indicates a need for further action, the EPA may initiate remedial actions. Whenever there is a significant release from a site deleted from the NPL, the deleted site may be restored to the NPL without application of the hazard ranking system.

III. Deletion Procedures

The following procedures apply to deletion of the Site:

(1) The EPA consulted with the State of Louisiana on the deletion of the Site from the NPL prior to developing this Direct Final Rule of Deletion.

(2) The State of Louisiana concurred with deletion of the Site from the NPL.

(3) Concurrently with the publication of this Direct Final rule of Deletion, a parallel proposed Notice of Intent to Delete published today in the “Proposed Rules” section of the Federal Register is being published in a major local newspaper of general circulation at or near the Site and is being distributed to appropriate federal, state, and local government officials and other interested parties; the newspaper notice announces the 30-day public comment period concerning this action.

(4) The EPA placed copies of documents supporting the deletion in the Site information repositories identified above.

(5) If adverse comments are received within the 30-day public comment period, the EPA will publish a timely notice of Withdrawal of this Direct Final rule of Deletion, before its effective date and will prepare a response to comments and continue with the deletion process on the basis of the proposed Notice of Intent to Delete and the comments already received.

Deletion of a site from the NPL does not itself create, alter, or revoke any individual's rights or obligations. Deletion of a site from the NPL does not in any way alter the EPA's right to take enforcement actions, as appropriate. The NPL is designed primarily for informational purposes and to assist the EPA management. Section 300.425(e)(3) of the NCP states that the deletion of a site from the NPL does not preclude eligibility for future response actions, should future conditions warrant such actions.

IV. Basis for Site Deletion

The following information provides the EPA's rationale for deleting the Site from the NPL:

A. Site Location

The Site is located 3.5 miles southwest of the town of Abbeville in Vermilion Parish, Louisiana, on Parish Road P-7-31, also called Junuis Road. The Site occupies approximately 12.8 acres, and is bounded to the north and west by pasture land and to the east and south by the D.L. Mud Superfund Site and the LeBoeuf Canal. Areas adjacent to the Site are used as pasture land for grazing cattle and for other agricultural uses, predominantly rice, sugar-cane, and soybean crop raising. Ten residences are located within ½ mile of the Site on Parish Road P-7-31 and Route 335, the nearest being on the southeast site boundary. Because these homes are outside the corporate limits of Abbeville, residents in the area rely on ground water for their drinking water and for irrigation.

B. Site History

The Site was a vacuum truck and oilfield drilling mud plant operation from approximately 1969 to 1980. During the period that the facility was in operation, unpermitted disposal of contaminated organic and inorganic materials, primarily oil industry-related waste, occurred in several open pits. Gulf Coast Vacuum Services and its predecessors used the property as a trucking terminal and disposal facility for materials and wastes generated from oil and gas exploration and production. Vacuum trucks were rinsed out in several on-site pits, while unpermitted disposal of contaminated material and waste also occurred. Primary hazardous substances at the Site were organic compounds such as benzene, carcinogenic polyaromatic hydrocarbons (PAHs), and metals such as arsenic and barium.

The EPA performed three Removal Actions at the Site prior to the initiation of a Remedial Action (RA). The purpose of these Removal Actions was to prevent contaminated rainwater, which accumulated on top of the sludge pits, from overflowing onto adjacent agricultural fields. These removals were conducted in March through April 1990, February through March 1991, and in April 1992. During each Removal Action, approximately 800,000 gallons of water were pumped, treated, and discharged. In addition, during the 1990 and 1992 removal actions, fencing around the pit areas was installed.

The EPA performed the Remedial Investigation (RI) of the Site from November 1990 through March 1992. Various heavy metal and PAH contaminants were detected at levels on-site that measured above health-based standards.

In July 1992, the EPA released the RI Report and the Feasibility Study (FS). The RI Report included all RI sampling results. The FS provided an in-depth analysis of remedial alternatives, which included on-site and off-site treatment alternatives such as incineration, on-site and off-site containment alternatives such as disposal and capping, and a “no action” alternative. The FS concluded that a “no action” alternative at the Site could result in a potential health threat to the public, through dermal contact with contaminated soils and sludges, and a potential health threat to nearby residents, who rely on ground water for their drinking water.

The EPA, in consultation with the LDEQ, signed two Records of Decision (ROD) on September 30, 1992. The Operable Unit 2 (OU2), Interim Source Control ROD, designed to address the short-term, immediate exposure risks associated with rainwater overflow from the pits, called for treatment of contaminated rainwater to LDEQ surface discharge standards, the consolidation of the Washout Pit into the West Pit, and the covering of the West Pit.

The September 1992 Operable Unit 1 (OU1), Final Source Action ROD, selected on-site incineration to address the long-term environmental and human health risks associated with the organic contaminants on-site. The OU1 ROD also selected stabilization and solidification of inorganic-contaminated soils and residuals of the organic treatment, and monitoring of the ground water. The OU1 ROD was amended in May 1995 (“the Amended ROD”) to change the way in which the organic-contaminated material was handled. Based on the OU1 ROD and the Amended ROD, the Final Source Control remedy for the Site included: on-site biological treatment of organic-contaminated pit sludges (surface and buried), associated soils and tank contents; stabilization and on-site disposal of the treated residuals from the bio-treatment as required to meet performance standards for inorganic compounds, and capping with a two (2) foot compacted clay cover; on-site stabilization and disposal of the Site soils contaminated with metals (inorganics), and capping with a two (2) foot compacted clay cover; and institutional controls, such as deed notices and long-term monitoring of the ground water.

One additional performance standard was that the stabilized material would have to pass Toxicity Characteristic Leaching Procedure (TCLP) requirements using a modified TCLP test (distilled water was substituted for the specified acid) and that the leachate from the TCLP test would also have to meet Clean Water Act Maximum Contaminant Levels.

The OU2 RD Work Plan submitted by the PRP Group was approved by the EPA on September 13, 1993. The OU1 RD Work Plan was approved by the EPA on June 2, 1997. These Work Plans detailed the design criteria and the steps that would be undertaken to achieve the goals of the Site RODs.

The OU2 ROD was implemented by a PRP group, consisting of 13 PRPs who were directed to do the action through a December 11, 1992, Unilateral Administrative Order (UAO). Implementation of the OU2 Remedial Action (RA) began on September 29, 1993. The OU2 RA work, performed in accordance with the UAO Statement of Work and the OU2 RD Work Plan, was completed on September 30, 1994. During the OU2 Interim Action, approximately 2 million gallons of water were treated and discharged, approximately 2,100 cubic yards of contaminated soil were moved from the Washout Pit to the West Pit, and the West Pit was covered with a synthetic cover. The OU2 remedial action was completed on September 30, 1994, the date the EPA approved the OU2 Remedial Action Certification Report.

On June 5, 1995, a Consent Decree (CD) between the EPA and a fourteen-member PRP group was entered in Federal District Court. The PRP group performed the OU1 activities under this CD and its accompanying Statement of Work and the OU1 RD Work Plan. OU1 remedy construction began on June 2, 1997. The PRPs conducted the following remedial activities: on-site biological treatment of 31,617 cubic yards of organic-contaminated pit sludges (surface and buried) and associated soils and tank contents; stabilization and on-site disposal (in the excavated West Pit and Washout Pit) of 21,347 cubic yards of Site soils contaminated with metals (inorganics) and approximately 20,000 cubic yards of biological treatment residuals; capping of the stabilized material with a two (2) foot compacted clay cover and seeding of the cover; fencing of the Site; implementation of deed notices; and ground water monitoring.

Confirmatory samples were taken of all excavated areas of the Site to ensure that all materials with concentrations of contaminants higher than the health-based Remedial Action Goals (RAGs) had been removed. In addition, performance samples were taken to ensure that the bio-treatment residuals met the RAGs, to show that the stabilized Site materials met the TCLP standard, and to show that the stabilized material had the physical properties (such as strength) specified in the RD work plan.

A pre-final inspection was conducted on February 19, 1999, and a final inspection was conducted on March 11, 1999. The EPA determined that the RA was complete during the final inspection, except for the submittal of the RA report and the filing of deed notices. The PRP group submitted the RA Report for OU1 to EPA on June 11, 1999. This report was reviewed by the LDEQ and a representative of the Technical Assistance Grant (TAG) group for the Site, and minor adjustments were made. Institutional controls, in the form of restrictive covenants were filed on September 29, 1999. The EPA approved the RA Report on October 4, 1999, and issued a Final Close Out Report on March 24, 2000.

C. Characterization of Risk

The following contaminants were detected in the various Site media above health-based standards: Surface Soils—arsenic (2.3-56.7 mg/kg) and barium (480-21,400 mg/kg); Sludges—carcinogenic PAHs (.09-7.5 mg/kg), benzene (7-529 mg/kg); and Ground Water-barium (Non-detect (ND)—5550 μg/L), cadmium (ND-210 μg/L), chromium (ND—2580 μg/L), mercury (ND—4.6 μg/L), and lead (ND—2580 μg/L).

The RAGs specified in the OU1 ROD and the Amended ROD are: arsenic, 16 mg/kg; barium, 5,400 mg/kg, total carcinogenic PAHs, 3 mg/kg; total non-carcinogenic PAHs, Hazard Index < 1; previously unidentified carcinogenic compounds of concern (COCs), residual risk < 10-4—10-6 cumulative risk prior to stabilization and capping; and previously unidentified non-carcinogenic compounds of concern, HI < 1.

D. Future Activity

Site Operation & Maintenance (O&M) activities which will be performed by the PRP Group include routine Site inspections to ensure that the cap on the disposal cells remains intact and maintenance of perimeter fencing. These activities are sufficient to maintain the protectiveness of the remedy. The PRP group, as agreed upon in the CD and accompanying Statement of Work and as detailed in the RA Work Plan and the O&M Plan, has assumed all responsibility for O&M at the Site. In addition, under the CD, the PRP Group shall perform ground water monitoring during the O&M period. Plans for O&M are in place and are sufficient to maintain the protectiveness of the remedy. The PRP Group is fulfilling its obligation to perform the O&M. All institutional controls are also in place, as the Site is fenced and a declaration of restrictions was filed with Vermilion Parish on September 29, 1999, restricting use of the Site ground water and limiting activities in the capped disposal cells.

Because the implementation of the Site remedies resulted in hazardous substances remaining on-site at concentration levels above levels that allow for unlimited use and unrestricted exposure (see CERCLA section 121(c), 42 U.S.C. 9621(c), and 40 CFR 300.430(f)(4)(ii)), a review will be conducted at least every five years after commencement of the Remedial Action to assure that human health and the environment are being protected by the response action. The five-year reviews will be conducted pursuant to “Comprehensive Five-Year Review Guidance,” OSWER Directive 9355.7-03B-P, Draft October 1999, or whatever EPA guidance is current at the time of the review. All response activities have been completed at the Site other than O&M and five-year reviews.

E. Community Involvement

Public participation activities have been satisfied as required in CERCLA section 113(k), 42 U.S.C. 9613(k), and CERCLA section 117, 42 U.S.C. 9617. Documents in the deletion docket which the EPA relied on for recommendation of the deletion from the NPL are available to the public in the information repositories.

V. Deletion Action

The EPA, with concurrence of the State of Louisiana, has determined that all appropriate responses under CERCLA have been completed, and that no further response actions, under CERCLA, other than O&M and five-year reviews, are necessary. Therefore, the EPA is deleting the Site from the NPL.

Because the EPA considers this action to be noncontroversial and routine, EPA is taking it without prior publication of a notice of intent to delete. This action will be effective July 23, 2001 unless EPA receives adverse comments by June 21, 2001. If adverse comments are received within the 30-day public comment period on the proposal, the EPA will publish a timely Withdrawal of this Direct Final rule of Deletion before the effective date of the deletion, and it will not take effect, and the EPA will prepare a response to comments and continue with the deletion process on the basis of the proposed Notice of Intent to Delete and the comments already received. There will be no additional opportunity to comment.

List of Subjects in 40 CFR Part 300

Environmental protection, Air pollution control, Chemicals, Hazardous waste, Hazardous substances, Penalties, Reporting and recordkeeping requirements, Superfund, Water pollution control, Water supply.

Dated: March 19, 2001.
Lynda F. Carroll,
Acting Regional Administrator, U.S. EPA, Region 6.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of Appendix B to Part 300 is amended under State of Louisiana (“LA”) by removing the site name “Gulf Coast Vacuum Services” and the city “Abbeville, Louisiana.”

[FR Doc. 01-12703 Filed 5-21-01; 8:45 am]

BILLING CODE 6560-50-P